DEPARTMENT OF ENERGY

Federal Energy Regulatory Commission

Combined Notice of Filings

April 01, 2009.

Take notice that the Commission has received the following Natural Gas Pipeline Rate and Refund Report filings:

Docket Numbers: RP96-272-089.

Applicants: Northern Natural Gas Company.

Description: Northern Natural Gas Company submit Fifth Revised Sheet No 66B.01a et al. to FERC Gas Tariff, Fifth Revised Volume No 1, to be effective 4/1/09.

Filed Date: 03/31/2009.

Accession Number: 20090331-0067.

Comment Date: 5 p.m. Eastern Time on Monday, April 13, 2009.

Docket Numbers: RP96-320-104.

Applicants: Gulf South Pipeline Company, LP.

Description: Gulf South Pipeline Company submits a capacity release agreement containing Negotiated Rate provisions executed by Gulf South and Texla Energy Management, Inc.

Filed Date: 03/30/2009.

Accession Number: 20090331-0057.

Comment Date: 5 p.m. Eastern Time on Monday, April 13, 2009.

Docket Numbers: RP99-176-194.

Applicants: Natural Gas Pipeline Co of America LLC.

Description: Natural Gas Pipeline Company of America LLC submits First Revised Sheet No 35B et al. to FERC Gas Tariff, Seventh Revised Volume No 1, to be effective 4/1/09.

Filed Date: 03/31/2009.

Accession Number: 20090331-0065.

Comment Date: 5 p.m. Eastern Time on Monday, April 13, 2009.

Docket Numbers: RP99-176-195.

Applicants: Natural Gas Pipeline Co of America LLC.

Description: Natural Gas Pipeline Company of America LLC submit Second Revised Sheet No 35C et al. to FERC Gas Tariff, Seventh Revised Volume No 1, to be effective 4/1/09.

Filed Date: 03/31/2009.

Accession Number: 20090331-0075.

Comment Date: 5 p.m. Eastern Time on Monday, April 13, 2009.

Docket Numbers: RP00-426-043.

Applicants: Texas Gas Transmission, LLC.

Description: Texas Gas Transmission, LLC submits Original Sheet 91 et al. to its FERC Gas Tariff, Third Revised Volume, and a Negotiated Rate Agreements related to the Henderson Dogtown Lateral Project.

Filed Date: 03/30/2009.

Accession Number: 20090331-0055.

Comment Date: 5 p.m. Eastern Time on Monday, April 13, 2009.

Docket Numbers: RP07-139-006.

Applicants: Algonquin Gas Transmission, LLC.

Description: Algonquin Gas Transmission, LLC submits Third Revised Sheet 513 to its FERC Gas Tariff, Fifth Revised Volume 1, to be effective 3/1/09.

Filed Date: 03/30/2009.

Accession Number: 20090331-0054.

Comment Date: 5 p.m. Eastern Time on Monday, April 13, 2009.

Docket Numbers: RP08-479-002.

Applicants: Saltville Gas Storage Company LLC.

Description: Saltville Gas Storage Company, LLC submits Substitute Fifth Revised Sheet 107 et al. to its FERC Gas Tariff, Original Volume 1, to be effective 3/1/09.

Filed Date: 03/30/2009.

Accession Number: 20090331-0052.

Comment Date: 5 p.m. Eastern Time on Monday, April 13, 2009.

Docket Numbers: RP08-487-002.

Applicants: East Tennessee Natural Gas, LLC.

Description: East Tennessee Natural Gas, LLC submits Substitute Second Revised Sheet 313 et al. to its FERC Gas Tariff, Third Revised Volume 1, to be effective 3/1/09.

Filed Date: 03/30/2009.

Accession Number: 20090331-0053.

Comment Date: 5 p.m. Eastern Time on Monday, April 13, 2009.

Docket Numbers: RP09-61-005.

Applicants: Gulf Crossing Pipeline Company LLC.

Description: Gulf Crossing Pipeline Company LLC submits replacement amendment to negotiated rate letter agreement re the Gulf Crossing Project.

Filed Date: 03/30/2009.

Accession Number: 20090331-0059.

Comment Date: 5 p.m. Eastern Time on Monday, April 13, 2009.

Docket Numbers: RP09-304-001.

Applicants: Texas Gas Transmission, LLC.

Description: Texas Gas Transmission, LLC submits Substitute First Revised Sheet No 2805 et al. to FERC Gas Tariff, Third Revised Volume No 1, to be effective 3/1/09.

Filed Date: 03/30/2009.

Accession Number: 20090331-0058.

Comment Date: 5 p.m. Eastern Time on Monday, April 20, 2009.

Docket Numbers: RP09-474-000.

Applicants: Natural Gas Pipeline Company of America.

Description: Natural Gas Pipeline Company of America LLC. submits Transportation Rate Schedule FTS Agreement dated 3/9/04 with Tenaska Marketing Ventures, to be effective 4/1/09.

Filed Date: 03/31/2009.

Accession Number: 20090331-0066.

Comment Date: 5 p.m. Eastern Time on Monday, April 13, 2009.

Docket Numbers: RP09-475-000.

Applicants: Vector Pipeline, LP.

Description: Vector Pipeline LP submits their Annual Fuel Use Report.

Filed Date: 03/31/2009.

Accession Number: 20090331-0068.

Comment Date: 5 p.m. Eastern Time on Monday, April 13, 2009.

Docket Numbers: RP09-477-000.

Applicants: Panhandle Eastern Pipe Line Company, LP.

Description: Panhandle Eastern Pipe Line Company, LP submits work papers in support of its Annual Flow Through of Cash Out Revenues in Excess of Costs and Scheduling Charges Assessed Against Affiliates.

Filed Date: 03/31/2009.

Accession Number: 20090331-0069.

Comment Date: 5 p.m. Eastern Time on Monday, April 13, 2009.

Docket Numbers: RP09-478-000.

Applicants: Panhandle Eastern Pipe Line Company, LP.

Description: Panhandle Eastern Pipe Line Company, LP submits Annual Report of Flow Through of Penalty Revenues.

Filed Date: 03/31/2009.

Accession Number: 20090331-0070.

Comment Date: 5 p.m. Eastern Time on Monday, April 13, 2009.

Docket Numbers: RP09-479-000.

Applicants: Columbia Gulf Transmission Company.

Description: Columbia Gulf Transmission Company submits First Revised Sheet No. 333D et al. to FERC Gas Tariff, Second Revised Volume No. 1, to be effective 5/1/09.

Filed Date: 03/31/2009.

Accession Number: 20090331-0071.

Comment Date: 5 p.m. Eastern Time on Monday, April 13, 2009.

Docket Numbers: RP09-480-000.

Applicants: Horizon Pipeline Company, LLC.

Description: Horizon Pipeline Company, LLC submits Second Revised Sheet No. 7C et al. to FERC Gas Tariff, Original Volume No. 1, to be effective 4/1/09.

Filed Date: 03/31/2009.

Accession Number: 20090331-0072.

Comment Date: 5 p.m. Eastern Time on Monday, April 13, 2009.

Docket Numbers: RP09-481-000.

Applicants: CenterPoint Energy Gas Transmission Company.

Description: CenterPoint Energy Gas Transmission Company submits annual revenue crediting filing pursuant to its FERC Gas Tariff, Sixth Revised Volume No. 1 etc.

Filed Date: 03/31/2009.

Accession Number: 20090331-0073.

Comment Date: 5 p.m. Eastern Time on Monday, April 13, 2009.

Docket Numbers: RP09-482-000.

Applicants: Horizon Pipeline Company, LLC.

Description: Horizon Pipeline Company, LLC submits its Penalty Revenue Crediting Report for the period 1/1/08 to 12/31/08.

Filed Date: 03/31/2009.

Accession Number: 20090331-0074.

Comment Date: 5 p.m. Eastern Time on Monday, April 13, 2009.

Docket Numbers: RP09-483-000.

Applicants: Quest Pipelines (KPC).

Description: Quest Pipelines submits Third Revised Sheet No. 21 et al. to FERC Gas Tariff, Second Revised Volume No. 1, to be effective 4/1/09.

Filed Date: 03/31/2009.

Accession Number: 20090331-0076.

Comment Date: 5 p.m. Eastern Time on Monday, April 13, 2009.

Docket Numbers: RP09-484-000.

Applicants: Kern River Gas Transmission Company.

Description: Report of Kern River Gas Transmission Company on Annual Fuel and Lost and Unaccounted-For Gas Factor Report for calendar year 2008.

Filed Date: 03/30/2009.

Accession Number: 20090330-5178.

Comment Date: 5 p.m. Eastern Time on Monday, April 13, 2009.

Docket Numbers: RP09-485-000.

Applicants: Rockies Express Pipeline LLC.

Description: Annual Incidental Purchases and Sales Report of Rockies Express Pipeline LLC.

Filed Date: 04/01/2009.

Accession Number: 20090401-5030.

Comment Date: 5 p.m. Eastern Time on Monday, April 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-8035 Filed 4-8-09; 8:45 am]

BILLING CODE 6717-01-P